DEPARTMENT OF LABOR

Office of the Secretary

Submission for OMB Review: Comment Request

January 4, 2010.

The Department of Labor (DOL) hereby announces the submission of the following public information collection request (ICR) to the Office of Management and Budget (OMB) for review and approval in accordance with the Paperwork Reduction Act of 1995 (Pub. L. 104-13, 44 U.S.C. chapter 35). A copy of this ICR, with applicable supporting documentation; including, among other things, a description of the likely respondents, proposed frequency of response, and estimated total burden may be obtained from the RegInfo.gov Web site at http://www.reginfo.gov/public/do/PRAMain or by contacting Darrin King on 202-693-4129 (this is not a toll-free number)/e-mail: DOL_PRA_PUBLIC@dol.gov.

Interested parties are encouraged to send comments to the Office of Information and Regulatory Affairs, Attn: OMB Desk Officer for the Department of Labor—Occupational Safety and Health Administration (OSHA), Office of Management and Budget, Room 10235, Washington, DC 20503, Telephone: 202-395-7316/Fax: 202-395-5806 (these are not toll-free numbers), E-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Occupational Safety and Health Administration.

Type of Review: Revision and extension of a previously approved collection.

Title of Collection: OSHA Data Initiative (ODI).

OMB Control Number: 1218-0209.

Affected Public: Business or other for-profits and State, Local, or Tribal Government.

Estimated Number of Respondents: 120,000.

Estimated Total Annual Burden Hours: 20,000.

Estimated Total Annual Costs Burden (excludes hourly wage costs): $0.

Description: To meet the Agency's program needs, OSHA is proposing to continue its initiative to collect injury and illness data and the number of workers and hours worked from establishments in portions of the private sector and some State government agencies. The purpose of the data collection is to compile occupational injury and illness data from employers within specific industries and size categories allowing OSHA to calculate occupational injury and illness rates by employer and specific industry. The agency will require this information from up to 120,000 employers required to create and maintain records pursuant to 29 CFR Part 1904. For additional information, see the related 60-day preclearance notice published in the Federal Register at Vol. 74 FR 45881 on September 4, 2009. PRA documentation prepared in association with the preclearance notice is available on http://www.regulations.gov under docket number OSHA-2009-0029.

Darrin A. King,
Departmental Clearance Officer.

[FR Doc. 2010-86 Filed 1-7-10; 8:45 am]

BILLING CODE 4510-26-P